ENVIRONMENTAL PROTECTION AGENCY

[FRL-7970-3]

Air Quality Management Subcommittee to the Clean Air Act Advisory Committee (CAAAC); Notice of Meeting

AGENCY: Environmental Protection Agency.

ACTION: Notice.

SUMMARY: The Environmental Protection Agency (EPA) established the Clean Air Act Advisory Committee (CAAAC) on November 19, 1990, to provide independent advice and counsel to EPA on policy issues associated with implementation of the Clean Air Act of 1990. The Committee advises on economic, environmental, technical, scientific, and enforcement policy issues.

Open Meeting Notice: Pursuant to 5 U.S.C. App. 2 Section 10(a)(2), notice is hereby given that the Air Quality Management subcommittee to the Clean Air Act Advisory Committee will hold its next open meeting on Tuesday, October 18 and Wednesday, October 19, 2005, from approximately 2 p.m. to 4:30 p.m. on October 18, and 8 a.m. to 5 p.m. on October 19 at the Catamaran Hotel in San Diego, California. Any member of the public who wishes to submit written or brief oral comments; or who wants further information concerning this meeting, should follow the procedures outlined in the section below titled “Providing Oral or Written Comments at this Meeting.” Seating will be limited and available on a first come, first served basis. The agenda for this meeting may be obtained by contacting Mr. Whitlow at the address noted in the section titled FOR FURTHER INFORMATION CONTACT.

Inspection of Committee Documents: The subcommittee agenda and any documents prepared for the meeting will be publicly available at the meeting. Thereafter, these documents, together with the meeting minutes, will be available by contacting the Office of Air and Radiation Docket and requesting information under docket OAR-2004-0075. The Docket office can be reached by telephoning 202-260-7548; FAX 202-260-4400.

FOR FURTHER INFORMATION CONTACT: For further information concerning the Air Quality Management subcommittee to the CAAAC, please contact Mr. Jeffrey Whitlow, Office of Air and Radiation, US EPA (919) 541-5523, FAX (919) 685-3307 or by e-mail at US EPA, Office of Air Quality Planning and Standards (Mail code C 439-04), 109 T.W. Alexander Drive, Research Triangle Park, NC 27711, or e-mail at: whitlow.jeff@epa.gov. Additional information on this meeting, the CAAAC, and its Subcommittees can be found on the CAAAC Web site: http://www.epa.gov/air/caaac.

Providing Oral or Written Comments at This Meeting: It is the policy of the subcommittee to accept written public comments of any length and to accommodate oral public comments whenever possible. The subcommittee expects that public statements presented at this meeting will not be repetitive of previously-submitted oral or written statements. Oral Comments: In general, each individual or group requesting an oral presentation at this meeting is limited to a total time of 5 minutes (unless otherwise indicated). However, no more than 30 minutes total will be allotted for oral public comments at this meeting; therefore, the time allowed for each speaker's comments will be adjusted accordingly. In addition, for scheduling purposes, requests to provide oral comments must be in writing (e-mail, fax, or mail) and received by Mr. Whitlow no later than noon Eastern Time five business days prior to the meeting in order to reserve time on the meeting agenda. Written Comments: Although the subcommittee accepts written comments until the date of the meeting (unless otherwise stated), written comments should be received by Mr. Whitlow no later than noon Eastern Time five business days prior to the meeting so that the comments may be made available to the subcommittee members for their consideration. Comments should be supplied to Mr. Whitlow (preferably via e-mail) at the address/contact information noted above, as follows: one hard copy with original signature, or one electronic copy via e-mail (acceptable file format: Adobe Acrobat PDF, WordPerfect, MS Word, MS PowerPoint, or Rich Text files (in IBM-PC/Windows 98/2000/XP format).

Dated: September 12, 2005.
Gregory A. Green,
Deputy Director, Office of Air Quality Planning and Standards.

[FR Doc. 05-18576 Filed 9-16-05; 8:45 am]

BILLING CODE 6560-50-M